DEPARTMENT OF LABOR

Office of Labor-Management Standards

RIN 1215-AB50

Union Organization and Voting Rights: Criteria for Characterizing a Labor Organization as a “Local,” “Intermediate,” or “National or International” Labor Organization; Reopening and Extension of Comment Period

AGENCY: Office of Labor-Management Standards, Employment Standards Administration, United States Department of Labor.

ACTION: Request for information from the public; reopening and extension of comment period.

SUMMARY: This document reopens and extends the period for comments on the request for information published on November 3, 2004 (69 FR 64234). That request for information invites the public to assist the Department of Labor (“Department”) in evaluating its methods for determining when a labor organization constitutes a “local,” “intermediate” or “national or international” labor organization for purposes of the Labor-Management Reporting and Disclosure Act of 1959, as amended (“Act”). The comment period, which was to expire on December 3, 2004, is reopened and extended 30 days to January 3, 2005.

DATES: Comments on the request for information published on November 3, 2004 (69 FR 64234) must be received on or before January 3, 2005.

ADDRESSES: You may submit comments, identified by RIN 1215-AB50, by any of the following methods:

E-mail: OLMS-REG-1215-AB50@dol.gov.

FAX: (202) 693-1340.

To assure access to the FAX equipment, only comments of five or fewer pages will be accepted via FAX transmittal, unless arrangements are made prior to faxing, by calling the number below and scheduling a time for FAX receipt by the Office of Labor-Management Standards (OLMS).

Mail: Mailed comments should be sent to Lary Yud, Deputy Director, Office of Labor-Management Standards, U.S. Department of Labor, 200 Constitution Avenue, NW., Room N-5605, Washington, DC 20210. Because the Department continues to experience delays in U.S. mail delivery due to the ongoing concerns involving toxic contamination, commenters should take this into consideration when preparing to meet the deadline for submitting comments.

It is recommended that you confirm receipt of your comment by calling (202) 693-0123 (this is not a toll-free number). Individuals with hearing impairments may call 1-800-877-8339 (TTY/TDD).

Comments will be available for public inspection during normal business hours at the above address.

FOR FURTHER INFORMATION CONTACT: Kay H. Oshel, Chief, Division of Interpretations and Standards, Office of Labor-Management Standards, U.S. Department of Labor, 200 Constitution Avenue, NW., Room N-5605, Washington, DC 20210, olms-public@dol.gov, (202) 693-1233 (this is not a toll-free number). Individuals with hearing impairments may call 1-800-877-8339 (TTY/TDD).

SUPPLEMENTARY INFORMATION: In the Federal Register of November 3, 2004, (69 FR 64234) the Department published a request for information from the public to assist the Department in evaluating its methods for determining when a labor organization constitutes a “local,” “intermediate” or “national or international” labor organization.

Interested persons were invited to submit comments on or before December 3, 2004. Because union members requested additional time to inform other members about the request for information and to submit comments, the Department has decided to reopen and extend the comment period for 30 days.

The complete request for information remains available on the OLMS Web site at http://www.olms.dol.gov. Anyone who is unable to access this information on the Internet can obtain a copy by contacting Kay H. Oshel, Chief, Division of Interpretations and Standards, Office of Labor-Management Standards, U.S. Department of Labor, 200 Constitution Avenue, NW., Room N-5605, Washington, DC 20210, olms-public@dol.gov, (202) 693-1233 (this is not a toll-free number). Individuals with hearing impairments may call 1-800-877-8339 (TTY/TDD).

Signed at Washington, DC, this 29th day of November, 2004.
Victoria A. Lipnic,
Assistant Secretary for Employment Standards.
Don Todd,
Deputy Assistant Secretary for Labor-Management Programs.

[FR Doc. 04-26612 Filed 12-2-04; 8:45 am]

BILLING CODE 4510-CP-P